DEPARTMENT OF LABOR

Office of the Secretary

Bureau of International Labor Affairs; U.S. National Administrative Office; North American Agreement on Labor Cooperation; Notice of Request for Comment

AGENCY: Office of the Secretary, Labor.

ACTION: Notice.

SUMMARY: Article 10(1)(a) of the North American Agreement on Labor Cooperation (NAALC) calls for the Council for the Commission for Labor Cooperation to review the operation and effectiveness of the NAALC. The Council completed a review of the Agreement in 1998, for the period 1994-1998, and issued a report titled “Review of the North American Agreement on Labor Cooperation”. In that report, the Council agreed to undertake a second review in the year 2002. The U.S. National Administrative Office is seeking public comment for the purpose of that report.

DATES: Written comments on the operation and effectiveness of the NAALC should be submitted by December 5, 2003.

ADDRESSES: Send written comments to the U.S. National Administrative Office, U.S. Department of Labor, Room S-5205, 200 Constitution Avenue, NW., Washington, DC 20210.

FOR FURTHER INFORMATION CONTACT: Lewis Karesh, Acting Director, U.S. National Administrative Office, Department of Labor, 200 Constitution Avenue, NW., Room S-5205, Washington, DC 20210. Telephone: (202) 693-4900 (this is not a toll-free number).

SUPPLEMENTARY INFORMATION: The North American Agreement on Labor Cooperation (NAALC) was signed by the Presidents of the United States of America and of the United Mexican States, and the Prime Minister of Canada in September 1993 and entered into force on January 1, 1994. Article 10(1)(a) of the NAALC provides that the Council shall “oversee the implementation and develop recommendations on the further elaboration of this Agreement and, to this end, the Council shall, within four years after the date of entry into force of this Agreement, review its operation and effectiveness in light of experience * * *.” The Council carried out the first review of the Agreement in 1998 and issued a report titled “Review of the North American Agreement on Labor Cooperation”. In that report, the Council agreed to undertake a second comprehensive review in the year 2002. As part of the review, the U.S. National Administrative Office is seeking public comments on the operation and effectiveness of the NAALC from 1999 to the present. Written comments plus an electronic version (preferred in Microsoft Word format) may be sent to the U.S. National Administrative Office.

A text of the NAALC can be obtained at the following Internet address: http://www.dol.gov/ILAB/regs/naalc/naalc/htm. A text of the first four years review can be obtained at the following Internet address: http://www.naalc.org/english/publications/review.htm or by calling (202) 693-4900.

Signed at Washington, DC, on October 28, 2003.
Lewis Karesh,
Acting Director, U.S. National Administrative Office.

[FR Doc. 03-27831 Filed 11-4-03; 8:45 am]

BILLING CODE 4510-28-P